COMMITTEE FOR PURCHASE FROM PEOPLE WHO ARE BLIND OR SEVERELY DISABLED

Procurement List; Proposed Additions and Deletions

ACTION: Proposed Additions to and Deletions from the Procurement List.

SUMMARY: The Committee is proposing to add to the Procurement List products and services to be furnished by nonprofit agencies employing persons who are blind or have other severe disabilities, and to delete products previously furnished by such agencies.

Comments Must be Received on or Before: September 2, 2007.

ADDRESSES: Committee for Purchase From People Who Are Blind or Severely Disabled, Jefferson Plaza 2, Suite 10800, 1421 Jefferson Davis Highway, Arlington, Virginia, 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Long Format Replacement Pages—FCCL

NSN: 7510-00-NSH-0257—Refill sheets for long format Flight Crew Check List Binder.

Standard Format Replacement Pages, FCCL

NSN: 7510-01-537-1400—Refill sheets for Flight Crew Checklist Binders—5.5″ x 8.00″ w/16 holes for rings.

Coverage: A-List for the total Government requirement as specified by the General Services Administration.

NPA: Pueblo Diversified Industries, Inc., Pueblo, CO.

Contracting Activity: General Services Administration, Federal Supply Services, Region 2, New York, NY.

USB Flash Drives

NSN: 7520-00-NIB-1832—USB Flash Drives.

NSN: 7520-00-NIB-1833—USB Flash Drives.

NSN: 7520-00-NIB-1834—USB Flash Drives.

NSN: 7520-00-NIB-1835—USB Flash Drives.

NSN: 7520-00-NIB-1836—USB Flash Drives.

NSN: 7520-00-NIB-1837—USB Flash Drives.

NSN: 7520-00-NIB-1838—USB Flash Drives.

NSN: 7520-00-NIB-1839—USB Flash Drives.

NSN: 7520-00-NIB-1840—USB Flash Drives.

NSN: 7520-00-NIB-1841—USB Flash Drives.

NSN: 7520-00-NIB-1842—USB Flash Drives.

NSN: 7520-00-NIB-1843—USB Flash Drives.

NPA: North Central Sight Services, Inc., Williamsport, PA.

Coverage: A-List for the total Government requirement as specified by the General Services Administration.

Contracting Activity: General Services Administration, Region 2, Office Supplies & Paper Products Acquisition Ctr, New York, NY.

Services

Service Type/Location: Custodial Services, Department of Energy—Lindsay Complex, 775 Lindsay Blvd, Idaho Falls, ID.

NPA: Development Workshop, Inc., Idaho Falls, ID.

Contracting Activity: Department of Energy—IDAHO, Idaho Falls, ID.

Service Type/Location: Custodial Services, U.S. Department of Agriculture, Animal and Plant Health Inspection Service (APHIS), Plant Protection Quarantine (PPQ), Professional Development Center (PDC), 67 Thomas Johnson Drive, Suite A2 (Building 2), 69 Thomas Johnson Drive, Suite 100 (Building 1), Frederick, MD.

NPA: NW Works, Inc., Winchester, VA.

Contracting Activity: U.S. Department of Agriculture, Animal & Plant Health Inspection Service, MRP, Minneapolis, MN.

Service Type/Location: Grounds Maintenance, U.S. Department of Agriculture, Agricultural Research Service, 3127 Ligon Street, Raleigh, NC.

NPA: OE Enterprises, Inc., Hillsborough, NC.

Contracting Activity: U.S. Department of Agriculture, Agriculture Research Service—SAA Raleigh, Raleigh, NC.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Envelope, Inter-Departmental

NSN: 7530-00-NSH-0083—Envelope, Inter-Departmental, Blue.

NSN: 7530-00-NSH-0084—Envelope, Inter-Departmental, Red.

NSN: 7530-00-NSH-0085—Envelope, Inter-Departmental, Yellow.

NPA: Gateway Community Industries, Inc., Kingston, NY.

Contracting Activity: General Services Administration, Southwest Supply Center, Fort Worth, TX.

Marker, Lumocolor

NSN: 7520-01-507-6962—Markers, Lumocolor, Non-Permanent.

NSN: 7520-01-507-6966—Markers, Lumocolor, Non-Permanent.

NSN: 7520-01-507-6973—Markers, Lumocolor, Permanent.

NPA: Winston-Salem Industries for the Blind, Winston-Salem, NC.

Contracting Activity: General Services Administration, Office Supplies & Paper Products Acquisition Ctr, New York, NY.

Perforator, Paper, Desk

NSN: 7520-01-431-6247—Perforator, Paper, Desk.

NSN: 7520-01-431-6249—Perforator, Paper, Desk.

NPA: Foothill Workshop for the Handicapped, Inc., Pasadena, CA.

Contracting Activity: General Services Administration, Office Supplies & Paper Products Acquisition Ctr, New York, NY.

G. John Heyer,
General Counsel.

[FR Doc. E7-15091 Filed 8-2-07; 8:45 am]

BILLING CODE 6353-01-P